FEDERAL COMMUNICATIONS COMMISSION

47 CFR Part 73

[DA 00-1245; MM Docket No. 99-84; RM-9501, RM-9594]

Radio Broadcasting Services; Stratford and Lincoln, NH

AGENCY: Federal Communications Commission.

ACTION: Final rule.

SUMMARY: The Commission, at the request of Peter George, allots Channel 254A to Stratford, NH, as the community's first local aural service. See 64 FR 14429, May 21, 1999. Channel 254A can be allotted to Stratford in compliance with the Commission's minimum distance separation requirements with a site restriction of 8.6 kilometers (5.3 miles) north, at coordinates 44-43-54 NL; 71-34-10 WL, to avoid a short-spacing to vacant and unapplied-for Channel 256A at Whitefield, NH. Canadian concurrence in the allotment has been obtained since Stratford is located within 320 kilometers (200 miles) of the U.S.-Canadian border. The petition and counterproposal filed by Barry P. Lunderville to allot Channel 254A to Lincoln, NH, is dismissed for failure to comply with the subscription and verification requirements of Section 1.52 of the Commission's Rules. A filing window for Channel 254A at Stratford will not be opened at this time. Instead, the issue of opening a filing window for this channel will be addressed by the Commission in a subsequent order.

DATES: Effective July 24, 2000.

FOR FURTHER INFORMATION CONTACT: Leslie K. Shapiro, Mass Media Bureau, (202) 418-2180.

SUPPLEMENTARY INFORMATION: This is a synopsis of the Commission's Report and Order, MM Docket No. 99-84, adopted May 31, 2000, and released July 9, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334. 336.

§ 73.202 [Amended]

2. Section 73.202(b), the Table of FM Allotments under New Hampshire, is amended by adding Stratford, Channel 254A.

Federal Communications Commission.
John A. Karousos,
Chief, Allocations Branch, Policy and Rules Division, Mass Media Bureau.

[FR Doc. 00-16682 Filed 6-30-00; 8:45 am]

BILLING CODE 6712-01-P